DEPARTMENT OF COMMERCE

International Trade Administration

[A-570-002]

Continuation of Antidumping Duty Order: Chloropicrin From the People's Republic of China

AGENCY: Import Administration, International Trade Administration, Department of Commerce.

ACTION: Notice of Continuation of Antidumping Duty Order: Chloropicrin from the People's Republic of China.

SUMMARY: As a result of the determination by the Department of Commerce (“the Department”) and the International Trade Commission (“Commission”) that revocation of this antidumping duty order would be likely to lead to continuation or recurrence of dumping and material injury to an industry in the United States, the Department is publishing notice of the continuation of the antidumping duty order on chloropicrin from the People's Republic of China (“PRC”).

EFFECTIVE DATE: August 23, 2004.

FOR FURTHER INFORMATION CONTACT: Martha V. Douthit, Office of Policy, Import Administration, International Trade Administration, U.S. Department of Commerce, 14th Street and Constitution Ave., NW, Washington, DC 20230; telephone: (202) 482-5050.

SUPPLEMENTARY INFORMATION:

Background

On March 1, 2004, the Department initiated and the Commission instituted a sunset review of the antidumping duty order on chloropicrin from the PRC, pursuant to section 751(c) of the Tariff Act of 1930, as amended, (“the Act”).¹ As a result of its review, the Department found that revocation of the antidumping duty order would be likely to lead to continuation or recurrence of dumping and notified the Commission of the magnitude of the margins likely to prevail were the order revoked.²

¹ See Initiation of Five-year ("Sunset") Reviews, 69 FR 9585 (March 1, 2004).

² See Chloropicrin from the People's Republic of China; Final Results of the Expedited Sunset Review, 69 FR 40601 (July 6, 2004).

On August 10, 2004, the Commission determined, pursuant to section 751(c) of the Act, that revocation of the antidumping duty order on chloropicrin from the PRC would be likely to lead to continuation or recurrence of material injury to an industry in the United States within a reasonably foreseeable time.³

³ See Chloropicrin from China, 69 FR 48520 (August 10, 2004) and USITC Publication 3712 (August 2004), Investigation No. 731-TA-130 (Second Review).

Scope of the Order

The merchandise subject to this antidumping duty order is chloropicrin, also known as trichloronitromethane. A major use of the product is as a pre-plant soil fumigant (pesticide). Such merchandise is currently classifiable under Harmonized Tariff Schedule (“HTS”) item number 2904.90.50. The HTS item number is provided for convenience and customs purposes. The written description remains dispositive.

Determination

As a result of the determinations by the Department and the Commission that revocation of this antidumping duty order would likely lead to continuation or recurrence of dumping and material injury to an industry in the United States, pursuant to section 751(d)(2) of the Act, the Department hereby orders the continuation of the antidumping duty order on chloropicrin from the PRC. The effective date of continuation of this order will be the date of publication in the Federal Register of this Notice of Continuation. Pursuant to sections 751(c)(2) and 751(c)(6) of the Act, the Department intends to initiate the next five-year review of this order not later than July 2009.

Dated: August 17, 2004.
James J. Jochum,
Assistant Secretary for Import Administration.

[FR Doc. 04-19279 Filed 8-20-04; 8:45 am]

BILLING CODE 3510-DS-S